DEPARTMENT OF COMMERCE

National Institute of Standards and Technology

Manufacturing Extension Partnership Advisory Board

AGENCY: National Institute of Standards and Technology, Commerce.

ACTION: Notice of open meeting.

SUMMARY: The National Institute of Standards and Technology (NIST) announces that the Manufacturing Extension Partnership (MEP) Advisory Board will hold an open meeting on April 30, 2017.

DATES: The meeting will be held Sunday, April 30, 2017, from 8:00 a.m. to 5:30 p.m. Eastern Time.

ADDRESSES: The meeting will be held at the Hyatt Regency Denver at the Colorado Convention Center, 650 15th St. Denver, CO 80202. Please note admittance instructions in the SUPPLEMENTARY INFORMATION section below.

FOR FURTHER INFORMATION CONTACT: Cheryl L. Gendron, Manufacturing Extension Partnership, National Institute of Standards and Technology, 100 Bureau Drive, Mail Stop 4800, Gaithersburg, Maryland 20899-4800, telephone number (301) 975-2785, email: Cheryl.Gendron@nist.gov.

SUPPLEMENTARY INFORMATION: The MEP Advisory Board is authorized under Section 3003(d) of the America COMPETES Act (Pub. L. 110-69), as amended by the American Innovation and Competitiveness Act, Public Law 114-329 sec. 501 (2017), and codified at 15 U.S.C. 278k(m), in accordance with the provisions of the Federal Advisory Committee Act, as amended, 5 U.S.C. App. The Hollings MEP Program (Program) is a unique program, consisting of centers in each state and Puerto Rico with partnerships at the state, federal, and local levels. By statute, the MEP Advisory Board provides the NIST Director with: (1) Advice on the activities, plans, and policies of the Program; (2) assessments of the soundness of the plans and strategies of the Program; and (3) assessments of current performance against the plans of the Program.

Background information on the MEP Advisory Board is available at http://www.nist.gov/mep/about/advisory-board.cfm.

Pursuant to the Federal Advisory Committee Act, as amended, 5 U.S.C. App., notice is hereby given that the MEP Advisory Board will hold an open meeting on Sunday, April 30, 2017, from 8:00 a.m. to 5:30 p.m. Eastern Time. This meeting will focus on several topics and is being held in conjunction with a workshop for MEP Center Board members. The MEP Advisory Board agenda will include an information exchange between the two groups. The MEP Advisory Board will receive an update on Hollings MEP programmatic operations, as well as provide guidance and advice to Hollings MEP senior management on the development of the 2017-2022 Strategic Plan. The MEP Advisory Board will also provide input to Hollings MEP on developing protocols that will connect user facilities, research, and technologies at NIST and other federal laboratories with the help of the Hollings MEP national network to support small and mid-size manufacturers, and make recommendations on the establishment of a Hollings MEP Learning Organization. This encompasses an effort to strengthen connections by sharing best practices and building Working Groups and Communities of Practice for furtherance of the Hollings MEP Program's mission. The final agenda will be posted on the MEP Advisory Board Web site at http://www.nist.gov/mep/about/advisory-board.cfm. Admittance Instructions: Anyone wishing to attend the MEP Advisory Board meeting must submit their name, email address and phone number to Cheryl Gendron (Cheryl.Gendron@nist.gov or 301-975-2785) no later than Monday, April 24, 2017, 5:00 p.m. Eastern Time.

Individuals and representatives of organizations who would like to offer comments and suggestions related to the MEP Advisory Board's business are invited to request a place on the agenda. Approximately 15 minutes will be reserved for public comments at the end of the meeting. Speaking times will be assigned on a first-come, first-served basis. The amount of time per speaker will be determined by the number of requests received but is likely to be no more than three to five minutes each. The exact time for public comments will be included in the final agenda that will be posted on the MEP Advisory Board Web site at http://www.nist.gov/mep/about/advisory-board.cfm. Questions from the public will not be considered during this period. Speakers who wish to expand upon their oral statements, those who had wished to speak but could not be accommodated on the agenda, or those who were unable to attend in person are invited to submit written statements to the MEP Advisory Board, National Institute of Standards and Technology, 100 Bureau Drive, Mail Stop 4800, Gaithersburg, Maryland 20899-4800, via fax at (301) 963-6556, or electronically by email to Cheryl.Gendron@nist.gov.

Phillip A. Singerman,
Associate Director for Innovations and Industry Services.

[FR Doc. 2017-06776 Filed 4-5-17; 8:45 am]

BILLING CODE 3510-13-P